DEPARTMENT OF TRANSPORTATION

Federal Aviation Administration

[Summary Notice No. PE-2000-21]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before June 27, 2000.

ADDRESSES: Send comments on any application in triplicate to: Federal Aviation Administration, Office of the Chief Counsel, Attn: Rule Docket (AGC-200), Petition Docket No. ___, 800 Independence Avenue, SW., Washington, D.C. 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on June 1, 2000.
Donald P. Byrne,
Assistant Chief Counsel for Regulations.

Petitions for Exemption

Docket No.: 29974.

Petitioner: Mr. Joseph E. Fisher.

Section of the FAR Affected: 14 CFR 121.574 and 135.91.

Description of Relief Sought: To permit the operator of an aircraft on which Mr. Fisher is traveling to allow Mr. Fisher to furnish, carry, and operate onboard its aircraft certain oxygen storage, generating, and dispensing equipment for Mr. Fisher's medical use while being carried as a passenger.

Docket No.: 30023.

Petitioner: Lufthansa Technik.

Section of the FAR Affected: 14 CFR 25.562, 25.785(b), 25.785(h)(2), 25.785(j), 25.813(e), and 25.853(d).

Description of Relief Sought: To allow an executive interior to be installed for “private, not-for-hire” use on a Boeing Model 777-200 airplane.

Dispositions of Petitions

Docket No.: 29459.

Petitioner: Laurel Oaks Career Development Campus.

Section of the FAR Affected: 14 CFR 65.17(a), 65.19(b), and 65.75(a) and (b).

Description of Relief Sought/Disposition: To permit Laurel Oaks CDC to (1) administer the FAA oral and practical mechanic tests to students at times and places identified in Laurel Oaks CDC's FAA-approved AMT Policies, Procedures, and Curriculum handbook; (2) Conduct oral and practical mechanic tests as an integral part of the education process rather than upon students' successful completion of the mechanic written tests; (3) Approve students for retesting within 30 days after failure without requiring a signed statement certifying that additional instruction has been given in the failed area; and (4) Administer the FAA AMG written knowledge test to students immediately following successful completion of the general curriculum, before meeting the experience requirements of § 65.77. Partial Grant, 03/10/2000, Exemption No. 7154.

Docket No.: 29505.

Petitioner: Rough & Ready Guide Service, Inc. dba Nordic Flying Service.

Section of the FAR Affected: 14 CFR 43.3(a) and (g), and paragraph (c) of appendix A to part 43.

Description of Relief Sought/Disposition: To permit pilots employed by NFS to perform the preventative maintenance functions listed in paragraph (c) of appendix A to part 43 on an aircraft operated under 14 CFR part 135 without those pilots holding a mechanic certificate. Denial, 02/25/2000, Exemption No. 7129.

Docket No.: 29943.

Petitioner: Duncan Aviation, Inc.

Section of the FAR Affected: 14 CFR 145.45(f).

Description of Relief Sought/Disposition: To permit Duncan Aviation to place copies of its Inspection Procedures Manual (IPM) in strategic locations in its repair stations rather than giving a copy of its IPM to each of its supervisory and inspection personnel. Grant, 03/21/2000, Exemption No. 7159.

Docket No.: 27122.

Petitioner: Air Tractor, Inc.

Section of the FAR Affected: 14 CFR 61.31(a)(1).

Description of Relief Sought/Disposition: To permit Air Tractor and pilots of Air Tractor AT-802 and AT-802A airplanes to operate those airplanes without holding a type rating, although the maximum gross weight of the airplanes exceeds 12,500 pounds. Grant, 03/21/2000, Exemption No. 5651F.

Docket No.: 23290.

Petitioner: Air Transport Association of America.

Section of the FAR Affected: 14 CFR 121.311(f) and 121.391(d).

Description of Relief Sought/Disposition: To permit ATA member airlines and other similarly situated certificate holders operating under part 121 to continue to locate required flight attendants at the mid-cabin flight attendant station during takeoff and landing on Boeing 767 airplanes. Grant, 03/29/2000, Exemption No. 4298H.

Docket No.: 29732.

Petitioner: IHC Health Services, Inc. dba IHC Life Flight.

Section of the FAR Affected: 14 CFR 133.45(e)(1).

Description of Relief Sought/Disposition: To permit IHC to conduct Class D rotorcraft-load combination rescue operations with an A109K-2 helicopter certificated in the normal category under 4 CFR part 27, subject to certain conditions and limitations. Grant, 02/07/2000, Exemption No. 7118.

Docket No.: 29949.

Petitioner: Air Transport International, L.L.C.

Section of the FAR Affected: 14 CFR 121.310(d)(4).

Description of Relief Sought/Disposition: To permit ATI to operate its DC-8 airplanes in passenger-carrying operations without a cockpit control device for each emergency light, subject to certain conditions and limitations. Grant, 03/29/2000, Exemption No. 7156.

Docket No.: 28945.

Petitioner: Air Transport International, L.L.C.

Section of the FAR Affected: 14 CFR 121.433(c)(1)(iii), 121.441(a)(1), 121.441(b)(1), and appendix F to part 121.

Description of Relief Sought/Disposition: To permit ATI to continue to combine recurrent flight and ground training and proficiency checks for ATI's flight crewmembers into a single annual training and proficiency evaluation program. Grant, 02/11/2000, Exemption No. 6728A.

Docket No.: 29916.

Petitioner: Rhodes Aviation, Inc.

Section of the FAR Affected: 14 CFR 135.143(c)(2).

Description of Relief Sought/Disposition: To permit RAI to operate certain aircraft under part 135 without a TSO-C112 (Mode S) transponder installed in the aircraft. Grant, 03/17/2000, Exemption No. 7151.

Docket No.: 29901.

Petitioner: Segrave Aviation, Inc.

Section of the FAR Affected: 14 CFR 135.143(c)(2).

Description of Relief Sought/Disposition: To permit Segrave Aviation to operate certain aircraft under part 135 without a TSO-C112 (Mode S) transponder installed in the aircraft. Grant, 03/17/2000, Exemption No. 7150.

Docket No.: 29847.

Petitioner: Midwest Aviation Services, Inc.

Section of the FAR Affected: 14 CFR 135.143(c)(2).

Description of Relief Sought/Disposition: To permit MASI to operate certain aircraft under part 135 without a TSO-C112 (Mode S) transponder installed in the aircraft. Grant, 03/17/2000, Exemption No. 7149.

Docket No.: 29917.

Petitioner: Helicopters, Inc.

Section of the FAR Affected: 14 CFR 135.143(c)(2).

Description of Relief Sought/Disposition: To permit HCI to operate certain aircraft under part 135 without a TSO-C112 (Mode S) transponder installed in the aircraft. Grant, 03/14/2000, Exemption No. 7148.

Docket No.: 28159.

Petitioner: Grand Canyon Airlines, Inc.

Section of the FAR Affected: 14 CFR 121.345(c)(2) and 135.143(c)(2).

Description of Relief Sought/Disposition: To permit GCA to continue to operate certain aircraft under part 121 or part 135 without a TSO-C112 (Mode S) transponder installed in the aircraft. Grant, 03/30/2000, Exemption No. 6101B.

Docket No.: 25336.

Petitioner: United Airlines, Inc.

Section of the FAR Affected: 14 CFR 121.697(a)(3), (b), (c), and (d), and 121.709(b)(3).

Description of Relief Sought/Disposition: To permit United to continue to use computerized signatures to satisfy the airworthiness release signature requirements of part 121 in lieu of physical signatures. Grant, 03/31/2000, Exemption No. 5121F.

Docket No.: 19634.

Petitioner: Boeing Commercial Airplanes Group.

Section of the FAR Affected: 14 CFR 121.310(d)(4).

Description of Relief Sought/Disposition: To permit operators of McDonnell Douglas DC-8 aircraft to continue to operate those aircraft in passenger-carrying operations without a cockpit control device for each emergency light. Denial, 04/03/2000, Exemption No. 3055K.

[FR Doc. 00-14158 Filed 6-5-00; 8:45 am]

BILLING CODE 4910-13-M 0